DEPARTMENT OF DEFENSE

Office of the Secretary

[Docket ID: DoD-2024-OS-0145]

Proposed Collection; Comment Request

AGENCY: Office of the Under Secretary of Defense for Research and Engineering (OUSD(R&E)), Department of Defense (DoD).

ACTION: 60-Day information collection notice.

SUMMARY: In compliance with the Paperwork Reduction Act of 1995, the Defense Technical Information Center (DTIC) announces a proposed public information collection and seeks public comment on the provisions thereof. Comments are invited on: whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by March 3, 2025.

ADDRESSES: You may submit comments, identified by docket number and title, by any of the following methods:

Federal eRulemaking Portal: http://www.regulations.gov. Follow the instructions for submitting comments.

Mail: Department of Defense, Office of the Assistant to the Secretary of Defense for Privacy, Civil Liberties, and Transparency, 4800 Mark Center Drive, Mailbox #24, Suite 05F16, Alexandria, VA 22350-1700.

Instructions: All submissions received must include the agency name, docket number and title for this Federal Register document. The general policy for comments and other submissions from members of the public is to make these submissions available for public viewing on the internet at http://www.regulations.gov as they are received without change, including any personal identifiers or contact information.

FOR FURTHER INFORMATION CONTACT: To request more information on this proposed information collection or to obtain a copy of the proposal and associated collection instruments, please write to Defense Technical Information Center, 8725 John J. Kingman Road, Ft. Belvoir, VA 22060-6218 ATTN: Ms. Vakare Valaitis, or call (703) 767-9159.

SUPPLEMENTARY INFORMATION: Title, Associated Form, and OMB Number: Defense User Registration System (DURS); OMB Control Number 0704-0546.

Needs and Uses: DTIC requires all eligible users to be registered for access to DTIC's repository of access-controlled scientific and technical information documents. This system is called the Defense User Registration System, or DURS. The registration of a user enforces validation of an individual's identity, as well as that individual's persona (i.e., whether the individual is DoD, Federal government, or a contractor supporting the DoD or another federal agency) and that individual's authority to access limited and classified documents with distribution controls. A role-based environment based on a user's identification ensures security for DTIC's electronic information collection while the online systems increase availability of information to each user based on his or her mission needs.

Affected Public: Individuals or Households; Business or Other For-Profit; Not-For-Profit Institutions.

Annual Burden Hours: 1,325.

Number of Respondents: 6,625.

Responses per Respondent: 1.

Annual Responses: 6,625.

Average Burden per Response: 12 minutes.

Frequency: On occasion.

Dated: December 26, 2024.
Aaron T. Siegel,
Alternate OSD Federal Register, Liaison Officer, Department of Defense.

[FR Doc. 2024-31400 Filed 12-30-24; 8:45 am]

BILLING CODE 6001-FR-P